DEPARTMENT OF ENERGY

Office of Energy Efficiency and Renewable Energy

[Case No. RF-016]

Energy Conservation Program for Consumer Products: Decision and Order Granting a Waiver to LG From the Department of Energy Residential Refrigerator and Refrigerator-Freezer Test Procedure

AGENCY: Office of Energy Efficiency and Renewable Energy, Department of Energy.

ACTION: Decision and Order.

SUMMARY: The U.S. Department of Energy (DOE) gives notice of the decision and order (Case No. RF-016) that grants to LG Electronics, Inc. (LG) a waiver from the DOE electric refrigerator and refrigerator-freezer test procedure for certain basic models containing relative humidity sensors and adaptive control anti-sweat heaters. Under today's decision and order, LG shall be required to test and rate its refrigerator-freezers with relative humidity sensors and adaptive control anti-sweat heaters using an alternate test procedure that takes this technology into account when measuring energy consumption.

DATES: This Decision and Order is effective August 19, 2010.

FOR FURTHER INFORMATION CONTACT: Dr. Michael G. Raymond, U.S. Department of Energy, Building Technologies Program, Mailstop EE-2J, 1000 Independence Avenue, SW., Washington, DC 20585-0121. Telephone: (202) 586-9611, E-mail: Michael.Raymond@ee.doe.gov. Elizabeth Kohl, U.S. Department of Energy, Office of the General Counsel, Mail Stop GC-71, 1000 Independence Avenue, SW., Washington, DC 20585-0103, (202) 586-7796, E-mail: Elizabeth.Kohl@hq.doe.gov.

SUPPLEMENTARY INFORMATION: In accordance with Title 10 of the Code of Federal Regulations (10 CFR 430.27(l)), DOE gives notice of the issuance of its decision and order as set forth below. The decision and order grants LG a waiver from the applicable residential refrigerator and refrigerator-freezer test procedures in 10 CFR part 430, subpart B, appendix A1 for certain basic models of refrigerator-freezers with relative humidity sensors and adaptive control anti-sweat heaters, provided that LG tests and rates such products using the alternate test procedure described in this notice. Today's decision prohibits LG from making representations concerning the energy efficiency of these products unless the product has been tested consistent with the provisions and restrictions in the alternate test procedure set forth in the decision and order below, and the representations fairly disclose the test results. Distributors, retailers, and private labelers are held to the same standard when making representations regarding the energy efficiency of these products. 42 U.S.C. 6293(c).

Issued in Washington, DC, on August 11, 2010.
Cathy Zoi,
Assistant Secretary, Energy Efficiency and Renewable Energy.

Decision and Order

In the Matter of: LG Electronics, Inc. (Case No. RF-016).

Background

Title III of the Energy Policy and Conservation Act (EPCA) sets forth a variety of provisions concerning energy efficiency. Part A of Title III provides for the “Energy Conservation Program for Consumer Products Other Than Automobiles.” 42 U.S.C. 6291-6309. Part A of Title III includes definitions, test procedures, labeling provisions, energy conservation standards, and the authority to require information and reports from manufacturers. Further, EPCA authorizes the Secretary of Energy to prescribe test procedures that are reasonably designed to produce results that measure energy efficiency, energy use, or estimated operating costs, and that are not unduly burdensome to conduct. 42 U.S.C. 6293(b)(3).

Today's notice involves residential electric refrigerator and refrigerator-freezer products covered under Part A. The test procedure for residential electric refrigerators and refrigerator-freezers is contained in 10 CFR part 430, subpart B, appendix A1.

DOE's regulations for covered products contain provisions allowing a person to seek a waiver for a particular basic model from the test procedure requirements for covered consumer products when (1) the petitioner's basic model contains one or more design characteristics that prevent testing according to the prescribed test procedure, or (2) when prescribed test procedures may evaluate the basic model in a manner so unrepresentative of its true energy consumption characteristics as to provide materially inaccurate comparative data. 10 CFR 430.27(a)(1). Petitioners must include in their petition any alternate test procedures known to the petitioner to evaluate the basic model in a manner representative of its energy consumption characteristics. 10 CFR 430.27(b)(1)(iii).

The Assistant Secretary for Energy Efficiency and Renewable Energy (the Assistant Secretary) may grant a waiver subject to conditions, including adherence to alternate test procedures. 10 CFR 430.27(l). Waivers remain in effect pursuant to the provisions of 10 CFR 430.27(m).

The waiver process also allows any interested person who has submitted a petition for waiver to file an application for interim waiver of the applicable test procedure requirements. 10 CFR 430.27(a)(2). The Assistant Secretary will grant an interim waiver request if it is determined that the applicant will experience economic hardship if the interim waiver is denied, if it appears likely that the petition for waiver will be granted, and/or the Assistant Secretary determines that it would be desirable for public policy reasons to grant immediate relief pending a determination on the petition for waiver. 10 CFR 430.27(g).

On April 20, 2010, LG filed a petition for waiver from the test procedure applicable to residential electric refrigerators and refrigerator-freezers set forth in 10 CFR Part 430, subpart B, appendix A1. The products covered by the petition employ relative humidity sensors and adaptive control anti-sweat heaters, which detect and respond to temperature and humidity conditions, and then activate adaptive heaters as needed to evaporate excess moisture. LG's petition was published in the Federal Register on June 18, 2010. 75 FR 34726.

Assertions and Determinations

LG's Petition for Waiver

In its April 2010 petition, LG sought a waiver from the existing DOE test procedure applicable to refrigerators and refrigerator-freezers under 10 CFR part 430 because it takes neither ambient humidity nor adaptive technology into account. DOE did not receive any comments on the LG petition.

LG requested that it be permitted to use the same alternate test procedure DOE prescribed for GE, Whirlpool, and other companies manufacturing refrigerators and refrigerator-freezers equipped with a similar technology. Specifically, DOE granted GE, Whirlpool, Electrolux, Samsung, and Haier waivers on February 27, 2008 (73 FR 10425), May 5, 2009 (74 FR 20695), December 15, 2009 (74 FR 66338), March 18, 2010 (75 FR 13122), and June 7, 2010 (75 FR 32175), respectively. The alternate test procedure simulates the energy used by the adaptive heaters in a typical consumer household, as explained in the respective decisions and orders referenced above. As DOE has stated in the past, it is in the public interest to have similar products tested and rated for energy consumption on a comparable basis.

Consultations With Other Agencies

DOE consulted with the Federal Trade Commission (FTC) staff concerning the LG petition for waiver. The FTC staff did not have any objections to granting a waiver to LG.

Conclusion

After careful consideration of all the material that was submitted by LG and consultation with the FTC staff, it is ordered that:

(1) The petition for waiver submitted by the LG Electronics, Inc. (Case No. RF-016) is hereby granted as set forth in the paragraphs below.

(2) LG shall not be required to test or rate the following LG models on the basis of the current test procedures contained in 10 CFR part 430, subpart B, appendix A1. Instead, it shall be required to test and rate such products according to the alternate test procedure as set forth in paragraph (3) below:

Type | Sales model | Brand
3D (3 door) Basic | LFC2#7##** | LG
3D Water Dispenser only | LFD2#8##** | LG
3D Ice Water Dispenser | LFX2#9##LG | LG
4D Basic | LMC2#7##** | LG
4D Water Dispenser only | LMD2#8##** | LG
4D Ice-Water Dispenser | LMX2#9##** | LG
3D Ice-Water Dispenser | LSFX213ST | Viking
4D Ice-Water Dispenser | LSMX214ST | Viking
All | 795.#####.### | Kenmore
2D SXS | LSC23944** | LG
3D Basic | LFC20745** | LG
3D Basic | 7831# | Kenmore
3D Basic | LFC23760** | LG
3D Basic | LFC23770** | LG
3D Dispenser | LFD23860** | LG
3D Dispenser | 7835# | Kenmore
3D Ice and Water | 7841# | Kenmore
3D Ice and Water | LFX23965** | LG
All | 501.##### | Kenmore
2D SXS | LRSC26923** | LG
2D SXS | LRSC26925** | LG
2D SXS | 5101# | Kenmore
2D SXS | 5102# | Kenmore
2D SXS | 5103# | Kenmore
2D SXS | LSC27914** | LG
2D SXS | LSC27934** | LG
2D SXS | 5107# | Kenmore
2D SXS | 5108# | Kenmore
2D SXS | 5109# | Kenmore
2D SXS | 5131# | Kenmore
2D SXS | 5132# | Kenmore
2D SXS | 5137# | Kenmore
2D SXS | LSC23924** | LG
2D SXS | LSC23954** | LG
3D Basic | LFC20760** | LG
3D Basic | 7130# | Kenmore
3D Basic | 7830# | Kenmore
3D Basic | LFC23760** | LG
3D Basic | LFC23770** | LG
3D Dispenser | 7834# | Kenmore
3D Dispenser | 7835# | Kenmore
3D Ice and Water | 7840# | Kenmore
3D Ice and Water | LFX23961** | LG
All | 795.#####.### | Kenmore

(3) LG shall be required to test the products listed in paragraph (2) above according to the test procedures for electric refrigerator-freezers prescribed by DOE at 10 CFR part 430, appendix A1, except that, for the LG products listed in paragraph (2) only:

(A) The following definition is added at the end of Section 1:

1.13 Variable anti-sweat heater control means an anti-sweat heater where power supplied to the device is determined by an operating condition variable(s) and/or ambient condition variable(s).

(B) Section 2.2 is revised to read as follows:

2.2 Operational conditions. The electric refrigerator or electric refrigerator-freezer shall be installed and its operating conditions maintained in accordance with HRF-1-1979, section 7.2 through section 7.4.3.3, except that the vertical ambient temperature gradient at locations 10 inches (25.4 cm) out from the centers of the two sides of the unit being tested is to be maintained during the test. Unless shields or baffles obstruct the area, the gradient is to be maintained from 2 inches (5.1 cm) above the floor or supporting platform to a height 1 foot (30.5 cm) above the unit under test. Defrost controls are to be operative. The anti-sweat heater switch is to be off during one test and on during the second test. In the case of an electric refrigerator-freezer equipped with variable anti-sweat heater control, the result of the second test will be derived by performing the calculation described in 6.2.3. Other exceptions are noted in 2.3, 2.4, and 5.1 below.

(C) New section 6.2.3 is inserted after section 6.2.2.2.

6.2.3 Variable anti-sweat heater control test. The energy consumption of an electric refrigerator-freezer with a variable anti-sweat heater control in the on position (Eon), expressed in kilowatt-hours per day, shall be calculated equivalent to:

EON = E + (Correction Factor)

Where:

E is determined by sections 6.2.1.1, 6.2.1.2, 6.2.2.1, or 6.2.2.2, whichever is appropriate, with the anti-sweat heater switch in the off position.

Correction Factor = (Anti-sweat Heater Power x System-loss Factor) x (24 hrs/1 day) x (1 kW/1000 W)

Where:

Anti-sweat Heater Power = A1 * (Heater Watts at 5%RH)

+ A2 * (Heater Watts at 15%RH)

+ A3 * (Heater Watts at 25%RH)

+ A4 * (Heater Watts at 35%RH)

+ A5 * (Heater Watts at 45%RH)

+ A6 * (Heater Watts at 55%RH)

+ A7 * (Heater Watts at 65%RH)

+ A8 * (Heater Watts at 75%RH)

+ A9 * (Heater Watts at 85%RH)

+ A10 * (Heater Watts at 95%RH)

Where A1-A10 are defined in the following table:

A1 = 0.034 | A6 = 0.119
A2 = 0.211 | A7 = 0.069
A3 = 0.204 | A8 = 0.047
A4 = 0.166 | A9 = 0.008
A5 = 0.126 | A10 = 0.016

Heater Watts at a specific relative humidity = the nominal watts used by all heaters at that specific relative humidity, 72 °F ambient, and DOE reference temperatures of fresh food (FF) average temperature of 45 °F and freezer (FZ) average temperature of 5 °F.

System-loss Factor = 1.3

(4) Representations. LG may make representations about the energy use of its adaptive control anti-sweat heater refrigerator-freezer products for compliance, marketing, or other purposes only to the extent that such products have been tested in accordance with the provisions outlined above and such representations fairly disclose the results of such testing.

(5) This waiver shall remain in effect consistent with the provisions of 10 CFR 430.27(m).

(6) This waiver is issued on the condition that the statements, representations, and documentary materials provided by the petitioner are valid. DOE may revoke or modify this waiver at any time if it determines the factual basis underlying the petition for waiver is incorrect, or the results from the alternate test procedure are unrepresentative of the basic models' true energy consumption characteristics.

Issued in Washington, DC, on August 11, 2010.
Cathy Zoi,
Assistant Secretary, Energy Efficiency and Renewable Energy.

[FR Doc. 2010-20562 Filed 8-18-10; 8:45 am]

BILLING CODE 6450-01-P